MISSISSIPPI RIVER COMMISSION

Sunshine Act Meeting

AGENCY HOLDING THE MEETINGS: Mississippi River Commission.

TIME AND DATE: 9 a.m., August 14, 2000.

PLACE: On board MISSISSIPPI V at Wabasha Landing, Wabasha, MN.

STATUS: Open to the public.

MATTERS TO BE CONSIDERED: (1) Summary of national and regional issues affecting Corps of Engineers and Commission programs and projects on the Mississippi River and its tributaries; (2) District Commander's overview of current project issues within St. Paul District; and (3) Views and comments on issues affecting programs or projects of the Commission and the Corps of Engineers.

TIME AND DATE: 1:30 p.m., August 16, 2000.

PLACE: On board MISSISSIPPI V at City Landing, Burlington, IA.

STATUS: Open to the public.

MATTERS TO BE CONSIDERED: (1) Summary of national and regional issues affecting Corps of Engineers and Commission programs and projects on the Mississippi River and its tributaries; (2) District Commander's overview of current project issues within Rock Island District; and (3) Views and comments on issues affecting programs or projects of the Commission and the Corps of Engineers.

TIME AND DATE: 6 p.m., August 17, 2000.

PLACE: On board MISSISSIPPI V at City Front, St. Louis, MO.

STATUS: Open to the public.

MATTERS TO BE CONSIDERED: (1) Summary of national and regional issues affecting Corps of Engineers and Commission programs and projects on the Mississippi River and its tributaries; (2) District Commander's overview of current project issues within St. Louis District; and (3) Views and comments on issues affecting programs or projects of the Commission and the Corps of Engineers.

TIME AND DATE: 8:30 a.m., August 21, 2000.

PLACE: On board MISSISSIPPI V at Old Ferry Landing, Tiptonville, TN.

STATUS: Open to the public.

MATTERS TO BE CONSIDERED: (1) Summary of national and regional issues affecting Corps of Engineers and Commission programs and projects on the Mississippi River and its tributaries; (2) District Commander's overview of current project issues within Memphis District; and (3) Views and comments on issues affecting programs or projects of the Commission and the Corps of Engineers.

TIME AND DATE: 8:30 a.m., August 22, 2000.

PLACE: On board MISSISSIPPI V at Tom Sawyer Mississippi River RV Park, West Memphis, AR.

STATUS: Open to the public.

MATTERS TO BE CONSIDERED: (1) Summary of national and regional issues affecting Corps of Engineers and Commission programs and projects on the Mississippi River and its tributaries; (2) District Commander's overview of current project issues within Memphis District; and (3) Views and comments on issues affecting programs or projects of the Commission and the Corps of Engineers.

TIME AND DATE: 3 p.m., August 23, 2000.

PLACE: On board MISSISSIPPI V at Fulton Street/Stevens Landing, Natchez, MS.

STATUS: Open to the public.

MATTERS TO BE CONSIDERED: (1) Summary of national and regional issues affecting Corps of Engineers and Commission programs and projects on the Mississippi River and its tributaries; (2) District Commander's overview of current project issues within Vicksburg District; and (3) Views and comments on issues affecting programs or projects of the Commission and the Corps of Engineers.

TIME AND DATE: 8:30 a.m., August 25, 2000.

PLACE: On board MISSISSIPPI V at City Front, Morgan City, LA.

STATUS: Open to the public.

MATTERS TO BE CONSIDERED: (1) Summary of national and regional issues affecting Corps of Engineers and Commission programs and projects on the Mississippi River and its tributaries; (2) District Commander's overview of current project issues within New Orleans District; and (3) Views and comments on issues affecting programs or projects of the Commission and the Corps of Engineers.

CONTACT PERSON FOR MORE INFORMATION: Mr. Stephen Gambrell, telephone 601-634-5766.

Gregory D. Showalter,
Army Federal Register Liaison Officer.

[FR Doc. 00-19130 Filed 7-25-00; 8:45 am]

BILLING CODE 3710-GX-U